DEPARTMENT OF JUSTICE

Notice of Lodging of Consent Decree Under Clean Air Act

In accordance with Departmental policy, 28 CFR 50.7, notice is hereby given that a proposed consent decree in United States v. Kenneth McDonald and Nicholas Menegatos, C.A. No. 3:CV-01-0510, was lodged on September 11, 2001, with the United States District Court for the Middle District of Pennsylvania. The consent decree resolves the United States' claims against Defendant Nicholas Menegatos for violations of the Clean Air Act, 42 U.S.C. 7401-7671q, and the National Emission Standards for Hazardous Air Pollutants for asbestos (“asbestos NESHAP”), 40 CFR part 61, with respect to the partial demolition of a facility, located in Tannersville, Pennsylvania.

Under the consent decree, Defendant Menegatos, based upon his ability-to-pay, has agreed to pay a civil penalty in the amount of $2700 and has agreed to take a training course that will familiarize him with the Clean Air Act and the asbestos NESHAP regulations.

The Department of Justice will receive, for a period of thirty (30) days from the date of this publication, comments relating to the proposed consent decree. Comments should be addressed to the Acting Assistant Attorney General for the Environment and Natural Resources Division, Department of Justice, Washington, DC 20530, and should refer to United States v. Kenneth McDonald and Nicholas Menegatos, C.A. No. 3:CV-01-0510, DOJ Reference No. 90-5-2-1-2217.

The proposed consent decree may be examined at the Office of the United States Attorney, 228 Walnut Street, Harrisburg, Pennsylvania 17108; and the Region III Office of the Environmental Protection Agency, 1650 Arch Street, Philadelphia, Pennsylvania 19103. A copy of the proposed consent decree may be obtained by mail from the Department of Justice Consent Decree Library, P.O. Box 7611, Washington, DC 20044. In requesting a copy, please refer to the referenced case and enclose a check in the amount of $5.75 (.25 cents per page production costs), payable to the Consent Decree Library.

Robert D. Brook,
Assistant Chief, Environmental Enforcement Section, Environment and Natural Resources Division.

[FR Doc. 01-24791 Filed 10-3-01; 8:45 am]

BILLING CODE 4410-15-M